DEPARTMENT OF DEFENSE

Department of the Navy

Notice of Meeting of the Ocean Research and Resources Advisory Panel

AGENCY: Department of the Navy, DoD.

ACTION: Notice.

SUMMARY: The Ocean Research and Resources Advisory Panel (ORRAP) will hold a regularly scheduled meeting, which will be open to the public.

DATES: The meeting will be held on Monday, April 6, 2009, from 9 a.m. to 5:30 p.m. and Tuesday, April 7, 2009, from 9 a.m. to 3 p.m. Members of the public should submit their comments one week in advance of the meeting to the meeting Point of Contact.

ADDRESSES: The meeting will be held in the offices of the Consortium of Ocean Leadership, 1201 New York Avenue NW., 4th Floor, Washington, DC.

FOR FURTHER INFORMATION CONTACT: Dr. Charles L. Vincent, Office of Naval Research, 875 North Randolph Street Suite 1425, Arlington, VA 22203-1995, telephone: 703-696-4118.

SUPPLEMENTARY INFORMATION: This notice of open meeting is provided in accordance with the Federal Advisory Committee Act (5 U.S.C. App. 2). The meeting will include discussions on coastal hazards, fishery management initiatives, ocean science policy, ocean observations, ocean mapping, education, and other current issues in the ocean science and resource management communities.

Dated: March 6, 2009.
T. M. Cruz,
Lieutenant Commander, Judge Advocate General's Corps, U.S. Navy, Alternate Federal Register Officer.

[FR Doc. E9-5345 Filed 3-11-09; 8:45 am]

BILLING CODE 3810-FF-P